DEPARTMENT OF ENERGY

Federal Energy Regulatory Commission

[Docket No. RD14-7-000]

North American Electric Reliability Corporation; Order Approving Reliability Standard

Before Commissioners: Cheryl A. LaFleur, Acting Chairman; Philip D. Moeller, John R. Norris, and Tony Clark.

1. On March 7, 2014, the North American Electric Reliability Corporation (NERC) submitted a petition for approval of proposed Reliability Standard PER-005-2 (Operations Personnel Training) and retirement of currently-effective Reliability Standard PER-005-1 (Systems Personnel Training). Reliability Standard PER-005-2 is designed to ensure that personnel performing or supporting real-time operations on the Bulk-Power System are trained using a systematic approach, and expands the scope of NERC's currently-effective training Reliability Standard to include certain personnel of transmission owners and generator operators, as well as operations support personnel as defined in a proposed new term for the NERC Glossary of Terms Used in Reliability Standards (NERC Glossary or Glossary). In addition, the proposed Reliability Standard includes new implementation period requirements for entities that become subject to the obligation to provide emergency operations training using simulation technology. NERC requests that the proposed standard become effective the first day of the first calendar quarter 24 months beyond the date the standard is approved.

2. As explained below, pursuant to section 215(d) of the Federal Power Act (FPA),¹ we approve Reliability Standard PER-005-2, and find that it is just, reasonable, not unduly discriminatory or preferential, and in the public interest. We also approve NERC's proposed implementation plan for the revised standard, including the retirement of currently-effective Reliability Standard PER-005-1, and the proposed violation risk factors and violation severity levels. Finally, we approve the new Glossary term “Operations Support Personnel” and proposed changes to the Glossary term “System Operator” as described in NERC's petition.

¹ 16 U.S.C. 824o(d) (2012).

I. Background

3. The Commission certified NERC as the Electric Reliability Organization (ERO), as defined in section 215 of the FPA, in July 2006.² On March 16, 2007, the Commission issued Order No. 693, approving 83 of the 107 initial Reliability Standards filed by NERC,³ including four PER Reliability Standards governing certain areas of personnel staffing and training.⁴

² North American Electric Reliability Corp., 116 FERC ¶ 61,062, order on reh'g and compliance, 117 FERC ¶ 61,126 (2006), order on compliance, 118 FERC ¶ 61,190, order on reh'g 119 FERC ¶ 61,046 (2007), aff'd sub nom. Alcoa Inc. v. FERC, 564 F.3d 1342 (D.C. Cir. 2009).

³ Mandatory Reliability Standards for the Bulk-Power System, Order No. 693, FERC Stats. & Regs. ¶ 31,242, order on reh'g, Order No. 693-A, 120 FERC ¶ 61,053 (2007).

⁴ See id. PP 1324-1417.

4. In addition, under section 215(d)(5) of the FPA, the Commission directed NERC to develop several modifications to the approved PER standards. Specifically, the Commission directed NERC to develop revised or additional standards that would: (1) Identify the expectations of the training for each job function; (2) develop training programs tailored to each job function with consideration of the individual training needs of the personnel; (3) expand the applicability of the training requirements to include: reliability coordinators, local transmission control center operator personnel, generator operators centrally-located at a generation control center with a direct impact on the reliable operation of the Bulk-Power System, and operations planning and operations support staff who carry out outage planning and assessments and those who develop system operating limits (SOL), interconnection reliability operating limits (IROL), or operating nomograms for real-time operations; (4) use a systematic approach to training methodology for developing new training programs; and (5) include the use of simulators by reliability coordinators, transmission operators, and balancing authorities that have operational control over a significant portion of load and generation.⁵

⁵ Id. P 1393.

5. In addition, the Commission directed NERC to determine whether it is feasible to develop meaningful performance metrics associated with the effectiveness of a training program required by then-effective Reliability Standard PER-002-0 and to consider whether personnel who support Energy Management System (EMS) applications should be included in mandatory training pursuant to the Reliability Standard.⁶

⁶ Id. P 1394.

6. NERC addressed a portion of the Order No. 693 directives in a September 30, 2009 filing, in which it submitted a new proposed standard PER-005-1 (System Personnel Training) along with a revised Reliability Standard, PER-004-2 (Reliability Coordination—Staffing). The Commission approved these proposed Reliability Standards in Order No. 742, finding that the new and revised standards would enhance the reliability of the Bulk-Power System.⁷ However, the Commission noted that the standards did not fully satisfy the directives issued in Order No. 693,⁸ and issued additional directives pursuant to FPA section 215(d)(5), requiring NERC to: (1) Consider the necessity of developing an implementation plan for entities that become subject to the requirement to provide emergency operations training using simulation technology in PER-005-1, Requirement R3.1, and (2) develop a Reliability Standard establishing training requirements for local transmission control center personnel.

⁷ System Personnel Training Reliability Standards, Order No. 742, 133 FERC ¶ 61,159, at P 16 (2010); order on clarification, 134 FERC ¶ 61, 078 (2011).

⁸ Specifically, the Commission noted that NERC had not yet addressed the Order No. 693 directives to (1) expand the applicability of the standard to include certain generator operators centrally-located at a generation control center; (2) expand the standard to include operations planning and operations support staff who carry out outage planning and assessments and those who develop SOLs and IROLs; and (3) consider whether personnel supporting Emergency Management System (EMS) applications should be included in mandatory operator personnel training requirements. See Order No. 742, 133 FERC ¶ 61,159 at P 74.

II. Proposed Reliability Standard PER-005-2 and NERC's Petition

7. On March 7, 2014, NERC filed a petition seeking approval of proposed PER-005-2, explaining that the purpose of the revisions is to “improve upon PER-005-1 by expanding the scope of the Reliability Standard” consistent with the Commission's directives in Order Nos. 693 and 742.⁹ NERC also seeks approval of the associated violation risk factors and violation severity levels, the proposed NERC Glossary definitions for the terms “System Operator” and “Operations Support Personnel,” and the proposed implementation plan for PER-005-2, including the retirement of currently-effective Reliability Standard PER-005-1 when PER-005-2 goes into effect.

⁹ NERC Petition at 3. Proposed Reliability Standard PER-005-2 is not attached to this order. The complete text of the proposed Reliability Standard is available on the Commission's eLibrary document retrieval system in Docket No. RD14-7-000, and is posted on NERC's Web site, available at: http://www.nerc.com.

8. The revised standard contains six requirements. Requirement R1 requires reliability coordinators, balancing authorities, and transmission operators to use a systematic approach to developing and implementing a training program for system operators, including development of specific task lists and an annual evaluation of the training program. Requirement R2 requires transmission owners to use a systematic approach to developing and implementing a training program for system operators, including development of specific task lists and an annual evaluation of the training program. Pursuant to the applicability section of the standard, this requirement would apply only to “[p]ersonnel, excluding field switching personnel, who can act independently to operate or direct the operation of the Transmission Owner's Bulk Electric System transmission Facilities in Real-time.” ¹⁰

¹⁰ Reliability Standard PER-005-2, Section 4.1.4.1.

9. Requirement R3 requires reliability coordinators, balancing authorities, transmission operators and transmission owners to verify the capabilities of their personnel as identified in Requirements R1 or R2. Requirement R4 requires reliability coordinators, balancing authorities, transmission operators and transmission owners to provide those personnel identified in Requirement R1 or R2 with emergency operations training using simulation technology to the extent that the entity has (1) operational authority or control over facilities with established IROLs, or (2) established protection systems or operating guides to mitigate IROL violations.

10. Requirement R5 requires reliability coordinators, balancing authorities, and transmission operators to use a systematic approach to develop and implement training for their operations support personnel, providing training on how their job functions impact the real-time reliability-related tasks identified in Requirement R1. Requirement R6 requires applicable generator operators to use a systematic approach to develop and implement training for certain of their dispatch personnel at a centrally located dispatch center (as defined in Applicability Section 4.1.5) on how their job functions impact the reliable operations of the BES.¹¹

¹¹ NERC proposes to assign a violation risk factor of Medium to each Requirement except Requirement R3, which is assigned a violation risk factor of High.

11. NERC maintains in its petition that PER-005-2 addresses all outstanding directives related to its personnel training requirements from Order Nos. 693 and 742. Specifically, NERC notes that it has expanded the scope of PER-005 to include training requirements for local transmission control center operator personnel; for operations support personnel who perform current day or next day outage coordination or assessments, or who determine SOLs or IROLs or operating nomograms in support of real-time operations; and for certain generator dispatch personnel at centrally located dispatch centers.¹²

¹² NERC Petition at 3.

12. NERC also maintains that the proposed Reliability Standard addresses the Commission's directive in Order No. 742 to develop an implementation period for those entities that may become subject to the requirement to provide emergency operations training using simulation technology, as Part 4.1 of Requirement R4 provides for a 12 month implementation period for newly-applicable entities.¹³ Finally, NERC explains that it has addressed the Commission's outstanding directive to consider whether the standard should include personnel who support EMS applications, through the standard drafting team's consideration of a May 2013 report provided by the NERC Operating Committee's Event Analysis Subcommittee. NERC states that the Event Analysis Subcommittee found only two events (as of May 2013) that involved the loss of EMS or Supervisory Control and Data Acquisition applications, as well as a lack of training. Based on those findings the Event Analysis Subcommittee “concluded that while EMS support personnel should receive training, the evidence does not support a need for such personnel to be trained under Reliability Standard PER-005.” ¹⁴

¹³ Id. at 4, 27.

¹⁴ Id. at 32.

13. NERC also maintains that the proposed standard improves on the currently-effective standard by “clarifying language in certain requirements and eliminating redundant or unnecessary requirements.” ¹⁵ As one example, NERC notes that PER-005-2 does not retain the obligation to provide system operators with at least 32 hours of emergency operations training every 12 months. Instead, NERC maintains that “mandating a minimum amount of emergency operations training, irrespective of the entity's unique characteristics or reliability risk to the Bulk-Power System, is unnecessary and inconsistent with the Commission-approved requirement to use a systematic approach to training methodology.” ¹⁶

¹⁵ Id. at 5.

¹⁶ Id. at 29.

14. In addition to proposing certain clarifying changes to the currently-effective Glossary term System Operator,¹⁷ NERC asks that the Commission approve its proposed definition for a new term, Operations Support Personal, to be defined as “[i]ndividuals who perform current day or next day outage coordination or assessments, or who determine SOLs, IROLs, or operating nomograms, in direct support of Real-time operations of the Bulk Electric System.” ¹⁸ NERC explains that this proposed definition mirrors the Commission's directive to include training requirements for “those [individuals] who carry out outage coordination and assessments in accordance with Reliability Standards IRO-004-1 and TOP-002-2, and those who determine SOLs and IROLs or operating nomograms in accordance with Reliability Standards IRO-005-1 and TOP-004-0.” ¹⁹

¹⁷ Among other things, NERC proposes to eliminate the reference to generator operators from the definition of system operator, noting that “[n]o reliability standard uses the NERC Glossary term `System Operator' to refer to Generator Operator personnel.” Id. at 36.

¹⁸ Id. at 30.

¹⁹ Id. (quoting Order No. 693, FERC Stats. & Regs. ¶ 31,242 at P 1372 and Order No. 742, 133 FERC ¶ 61,159 at P 82).

15. Finally, NERC asks that PER-005-2 and associated Glossary terms become effective on the first day of the first calendar quarter 24 months after Commission approval. NERC maintains that this implementation period is appropriate because certain functional entities are becoming subject to the standard for the first time, and because it is consistent with the implementation period provided for reliability coordinators, balancing authorities and transmission operators under PER-005-1.²⁰

²⁰ Id. at 36-37.

III. Notice of Filing, Interventions and Comments

16. Notice of NERC's petition was issued on March 12, 2014, with comments, protests and motions to intervene due on or before April 11, 2014. Two sets of comments were received. A Joint Motion to Intervene and Comments (ISO/RTO Joint Comments) was timely filed by the California Independent System Operator Corporation, Electric Reliability Council of Texas, Inc., Independent Electricity System Operator, ISO New England, Inc., Midcontinent Independent System Operator, Inc., New York Independent System Operator, Inc. and Southwest Power Pool, Inc. (the ISO/RTO Commenters). On April 17, 2014, PJM Interconnection, L.L.C. (PJM) filed a Motion to Intervene and Comment Out-of-Time.

17. The ISO/RTO Commenters support approval of PER-005-2, because it reasonably identifies individuals who may affect real-time system operations/reliability, sets out a reasonable scope for the training obligations, requires applicable entities to verify initial capabilities of their personnel, requires some form of simulation-based training for personnel involved with the operation of facilities that either have an IROL or are used to mitigate an IROL (without dictating the specific type of simulation training), and properly excludes personnel who support EMS applications. While the ISO/RTO Commenters maintain that the proposed standard “encompasses discretion on the part of the functional entities to `identif[y]' which personnel fall within the definition of Operations Support Personnel,” they also ask the Commission to “confirm that functional entities have the discretion to make that identification.” ²¹

²¹ ISO/RTO Joint Comments at 5.

18. While PJM does not ask the Commission to reject the proposed standard, it criticizes PER-005-2 as “an unnecessary and a potentially ineffective means to address an otherwise straightforward requirement; namely to train appropriate personnel.” ²² PJM maintains that program accreditation “would be a more appropriate means to address training requirements for the industry as opposed to a prescriptive, broad-brush Reliability Standard.” ²³ PJM explains that an accreditation model “would place the emphasis on the training program itself, and associated controls,” rather than on “applicable individuals, their personal training and performance records, individual pieces of training content, and other administrative documentation.” ²⁴ PJM accordingly asks the Commission to clarify that “an industry-accreditation program (with parameters overseen by FERC) can provide an acceptable means for compliance with the PER Standard and is not precluded as an alternative means of compliance with those requirements.” ²⁵

²² PJM Comments at 1.

²³ Id. at 3.

²⁴ Id. at 3-4.

²⁵ Id. at 2.

19. Like the Joint ISO/RTO Commenters, PJM notes its concern that there is no standardized job description for operations support personnel, and seeks clarification that responsible entities will be allowed to use reasonable discretion to identify operations support personnel subject to the standard's requirements.

IV. Discussion

A. Procedural Matters

20. Pursuant to Rule 214 of the Commission's Rules of Practice and Procedure, 18 CFR 385.214, the timely, unopposed motion to intervene filed by the ISO/RTO Commenters serves to make them parties to this proceeding. Pursuant to Rule 214(d) of the Commission's Rules of Practice and Procedure, 18 CFR 385.214(d), we will also grant PJM's late-filed motion to intervene given its interest in the proceeding, the early stage of the proceeding, and the absence of undue prejudice or delay.

B. Commission Determination

21. Pursuant to section 215(d) of the FPA, we approve Reliability Standard PER-005-2 as just, reasonable, not unduly discriminatory or preferential, and in the public interest.²⁶ We also approve NERC's proposed implementation plan for the revised standard, including the retirement of currently-effective Reliability Standard PER-005-1, and the proposed violation risk factors and violation severity levels. Finally, we approve the new Glossary term “Operations Support Personnel” and the proposed changes to the Glossary term “System Operator” as described in NERC's petition.

²⁶ 16 U.S.C. 824o(d)(2).

22. We find that PER-005-2 enhances the reliability of the Bulk-Power System by expanding the scope of NERC's currently-effective personnel training requirements to include additional personnel who perform or support real time operations on the Bulk-Power System and who therefore could have a direct impact on the reliability of the Bulk-Power System.

23. In addition, we find that PER-005-2 satisfies several outstanding Commission directives related to personnel training, by: (1) Requiring the systematic development and implementation of training programs for local transmission control center operator personnel of a transmission owner, including emergency operations training; (2) requiring systematic development and implementation of training for operations support personnel who can impact the reliable operation of the Bulk-Power System; and (3) requiring systematic development and implementation of training for generator owners' dispatch personnel at centrally located dispatch centers.

24. Further, we find that PER-005-2 includes a reasonable implementation period for entities that may become subject to the standard's requirement to provide emergency operations training using some form of simulation technology. Finally, we find that NERC has adequately considered whether EMS support personnel should be subject to mandatory training requirements under PER-005 or another appropriate standard. However, we note that the standard drafting team's decision to exclude EMS personnel is based on event analyses as of May 2013, and that NERC should reassess this issue if future event analyses do not support this exclusion.²⁷

²⁷ See Petition at 19, 31-32 (while the standard drafting team determined that there was “insufficient evidence at this time to warrant an extension of the mandatory training requirements to personnel that support EMS application,” NERC states that it “will continue to assess the need for mandatory training of these personnel.”).

25. Joint ISO/RTO Commenters and PJM request that we “confirm” that applicable entities can exercise “reasonable discretion” to identify the employees that fit within NERC's definition of Operations Support Personnel.²⁸ Joint ISO/RTO commenters suggest that the discretion to identify the appropriate personnel is encompassed by the language of Requirement R5, which provides that each applicable entity “shall use a system approach to develop and implement training for its identified Operations Support Personnel” ²⁹ NERC's definition of Operations Support Personnel, which we approve in this order, provides:

²⁸ PJM Comments at 5, Joint ISO/RTO Commenters at 4-5.

²⁹ Reliability Standard PER-005-2, R5 (emphasis added).

Individuals who perform current day or next day outage coordination or assessments, or who determine SOLs, IROLs, or operating nomograms, in direct support of Real-time operations of the Bulk Electric System.

Thus, the NERC definition of Operations Support Personnel sets forth the parameters of which employees must be trained pursuant to Requirement R5. We agree that applicable entities should exercise reasonable discretion in determining which of their employees fit within that definition. If an issue or uncertainty arises regarding the proper identification of employees, an applicable entity may seek to consult with the relevant Regional Entity or NERC.

26. Finally, with respect to PJM's request to “clarify that an industry-accreditation program . . . can provide an acceptable means for compliance with the PER Standard,” ³⁰ we note that, at present, an accreditation-based training program is not precluded “as an alternative means of compliance” if it otherwise meets all of the requirements of PER-005-2. If PJM would like to pursue accreditation-based training programs that take a fundamentally different approach to training as an alternative to PER-005-2 (i.e., the programs would not satisfy the requirements of PER-005-2), that approach would require revision of PER-005-2 and/or development of a new standard governing such alternative programs, and a demonstration that such an approach meets FPA section 215's requirements for proposed standards.

³⁰ PJM Comments at 2.

27. Accordingly, we approve Reliability Standard PER-005-2 pursuant to FPA section 215(d)(2), as we find that it is just, reasonable, not unduly discriminatory or preferential, and in the public interest. We also approve NERC's proposed implementation plan for the revised standard, including the retirement of currently-effective Reliability Standard PER-005-1, and the proposed violation risk factors and violation severity levels. Finally, we approve the new Glossary term “Operations Support Personnel” and the proposed changes to the Glossary term “System Operator” as described in NERC's petition.

V. Information Collection Statement

28. The collection of information contained in this order is subject to review by the Office of Management and Budget (OMB) under section 3507(d) of the Paperwork Reduction Act of 1995.³¹ OMB's regulations require approval of certain information collection requirements imposed by agency rules.³² Upon approval of a collection(s) of information, OMB will assign an OMB control number and an expiration date. Respondents subject to the filing requirements will not be penalized for failing to respond to this collection of information unless the collection of information displays a valid OMB control number.

³¹ 44 U.S.C. 3507(d) (2012).

³² 5 CFR 1320.11 (2013).

29. This order is effective immediately; however, the revised information collection requirements will not be effective or enforceable until OMB approves the information collection changes described in this order. Comments are solicited on the need for this information, whether the information will have practical utility, the accuracy of the burden estimates, ways to enhance the quality, utility, and clarity of the information to be collected or retained, and any suggested methods for minimizing respondents' burden, including the use of automated information techniques. Specifically, the Commission asks that any revised burden or cost estimates submitted by commenters be supported by sufficient detail to understand how the estimates are generated. Comments regarding this proposed information collection must be received on or before August 25, 2014.

30. Through issuance of this order, the Commission is approving Reliability Standard PER-005-2, and the retirement of Reliability Standard PER-005-1 when PER-005-2 goes into effect. Reliability Standard PER-005-2 will ensure that personnel performing or supporting real-time operations on the Bulk Electric System are trained using a systematic approach.

31. Public Reporting Burden: Proposed Reliability Standard PER-005-2 does not require responsible entities to file information with the Commission. However, the Reliability Standard requires applicable entities to develop and maintain certain information, subject to audit. In particular, reliability coordinators, balancing authorities, transmission operators, transmission owners and generator operators, must “have evidence” to show use of a systematic approach to develop and implement a training program for their system operators, for certain operations support personnel, for certain personnel in centrally located dispatch centers, and for certain local transmission control center personnel. Reliability Standard PER-005-2 does not create entirely new obligations with respect to the development, implementation, and maintenance of records related to training programs, but expands the scope of entities and personnel that may be subject to the standard's requirements. The burden estimate below accounts only for the increase in burden due to the expanded scope of PER-005-2.

32. Our estimate below regarding the number of respondents is based on the NERC compliance registry as of April 30, 2014. According to the NERC compliance registry, NERC has registered 15 reliability coordinators, 107 balancing authorities, 182 transmission operators, 337 transmission owners and 848 generator operators. However, under NERC's compliance registration program, entities may be registered for multiple functions, so these numbers incorporate some double counting. The number of unique entities responding will be approximately 387 entities registered as a reliability coordinator, balancing authority, transmission operator, transmission owner, or generator operator.

33. The Commission estimates the additional annual reporting burden and cost as follows:

FERC-725A, as Revised in Docket No. RD14-7
| Number and type of respondents ³³ | Annual number of responses per respondent | Total number of responses | Average burden & cost per response | Total annual burden hours & total annual cost | Cost per respondent ³⁴
| (1) | (2) |  | (3) | (1)×(2)×(3) |
(One-time) Development of a training program and materials, and task list [R2] | TO (337) ³⁵ | 1 | 337 | 15 hrs. & $59.62/hour | 5,055 hours & $301,379.10 | $894.30
(One-time) Development of a training program [R5] | RC, BA, TOP (216) | 1 | 216 | 15 hrs. & $59.62/hour | 3,240 hours & $193,168.80 | 894.30
(One-time) Development of a training program [R6] | GOP (848) | 1 | 848 | 15 hrs. & $59.62/hour | 12,720 hours & $758,366.40 | 894.30
(Ongoing) Annual Evaluation and update of training program and task list [R2 and R6] | TO (337), GOP (848) | 1 | ³⁶ 1,050 | 6 hrs. & $59.62/hour | 6,300 hours & $375,606 | 357.72
(Ongoing) Retention of records [M2, M6, and C.1.3] | TO (337), GOP (848) | 1 | 1,050 | 10 hrs. & $28.95/hour | 10,500 hrs. & $303,975 | 289.50
(Ongoing) Verification and retention of evidence of capabilities of personnel [R3, M3, C1.3], and creation and retention of records on simulation training [R4 and M4] | TO (337) | 1 | 337 | 10 hrs. & $28.95/hour | 3,370 hrs. & $97,561.50 | 289.50

³³ TO=Transmission Owner; RC=Reliability Coordinator; BA=Balancing Authority; TOP=Transmission Operator; GOP=Generator Operator.

³⁴ The estimated hourly costs (salary plus benefits) are based on Bureau of Labor and Statistics (BLS) information (available at http://bls.gov/oes/current/naics3_221000.htm#17-0000) for an electrical engineer ($59.62/hour for review and documentation), and for a file clerk ($28.95/hour for record retention).

³⁵ Not all transmission owners are expected to have personnel who will be subject to the revised personnel training requirements, but this estimate conservatively includes all registered TOs. The same approach is taken with respect to generator operators.

³⁶ Some transmission owners are also generator operators. To eliminate double counting some entities, this figure reflects the number of unique entities (1,050) within the group of TOs and GOPs. That approach is used throughout the table.

Title: Mandatory Reliability Standards for the Bulk-Power System.

Action: Proposed Revisions to FERC-725A.

OMB Control No: 1902-0244.

Respondents: Businesses or other for-profit institutions; not-for-profit institutions.

Frequency of Responses: One-time and ongoing.

Necessity of the Information: The Operations Personnel Training Standard, if adopted, would implement the Congressional mandate of the Energy Policy Act of 2005 to develop mandatory and enforceable Reliability Standards to better ensure the reliability of the nation's Bulk-Power System. Specifically, the purpose of the proposed Reliability Standard is to ensure that personnel performing or supporting real-time operations on the Bulk Electric System are trained using a systematic approach. The proposed Reliability Standard requires entities to maintain records subject to review by the Commission and NERC to ensure compliance with the Reliability Standard.

Internal Review: The Commission has reviewed the requirements pertaining to the proposed Reliability Standard for the Bulk-Power System and determined that the proposed requirements are necessary to meet the statutory provisions of the Energy Policy Act of 2005. These requirements conform to the Commission's plan for efficient information collection, communication and management within the energy industry. The Commission has assured itself, by means of internal review, that there is specific, objective support for the burden estimates associated with the information requirements.

34. Interested persons may obtain information on the reporting requirements by contacting the following: Federal Energy Regulatory Commission, 888 First Street NE., Washington, DC 20426 [Attention: Ellen Brown, Office of the Executive Director, email: DataClearance@ferc.gov, phone: (202) 502-8663, fax: (202) 273-0873].

VI. Effective Date

35. This order will become effective upon issuance.

The Commission orders:

(A) Reliability Standard PER-005-2 is hereby approved as just, reasonable, not unduly discriminatory, and in the public interest.

(B) The proposed revisions to NERC's Glossary of Terms are approved, as discussed in the body of this order, along with NERC's proposed implementation plan for Reliability Standard PER-005-2 and the proposed violation severity levels and violation risk factors.

By the Commission.
Issued: June 19, 2014.
Kimberly D. Bose,
Secretary.

[FR Doc. 2014-14938 Filed 6-25-14; 8:45 am]

BILLING CODE 6717-01-P